DEPARTMENT OF AGRICULTURE

Submission for OMB Review; Comment Request

June 16, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: NSLP/SBP Access, Participation, Eligibility, and Certification Study.

OMB Control Number: 0584-NEW.

Summary of Collection: The National School Lunch Program (NSLP) and the School Breakfast Program (SBP) provide federal financial assistance and commodities to schools serving lunches and breakfasts that meet required nutritional standards. The Improper Payments Information Act of 2002 (Pub. L. 107-300) requires USDA to identify and reduce erroneous payments in various programs, including the NSLP and SBP. In School Year 2005-2006 on-site data collection activities will be conducted in a nationally representative sample of schools selected from school districts across the 48 contiguous States and the District of Columbia.

Need and Use of the Information: To comply with the Improper Payments Information Act, USDA needs a reliable measure to estimate NSLP and SBP erroneous payments on an annual basis. The APEC Study will collect a broad range of data from nationally representative samples of School Food Authorities, schools, and households (on-site for a sample of students) to answer questions of interest to the U.S. Congress, USDA and other program stakeholders. Data collected in this study will produce national estimates of erroneous payments due to certification errors and meal counting and claiming. In addition, the on-site data collected, including household characteristic data, will also be used for informing program access issues including barriers and deterrence to participation.

Description of Respondents: Not-for-profit institutions, individuals or households, State, local, or tribal government.

Number of Respondents: 5,811.

Frequency of Responses: Reporting: one-time only.

Total Burden Hours: 5,525.

Charlene Parker,
Departmental Information Collection Clearance Officer.

[FR Doc. 05-12236 Filed 6-21-05; 8:45 am]

BILLING CODE 3410-30-P